DEPARTMENT OF TRANSPORTATION

Federal Aviation Administration

14 CFR Part 39

[Docket No. FAA-2019-0537; Product Identifier 2019-NE-16-AD]

RIN 2120-AA64

Airworthiness Directives; Anjou Aeronautique Torso Restraint Systems

AGENCY: Federal Aviation Administration (FAA), DOT.

ACTION: Notice of proposed rulemaking (NPRM).

SUMMARY: The FAA proposes to supersede airworthiness directive (AD) 2017-16-04 which applies to certain Anjou Aeronautique (formerly Romtex Anjou Aeronautique) Model 358 torso restraint systems (restraint systems). AD 2017-16-04 required inspection of the restraint system, placarding if it is found to be inoperative, and replacement of the affected restraint system with a part eligible for installation. Since the FAA issued AD 2017-16-04, the European Union Aviation Safety Agency (EASA) received reports of additional serial numbered restraint systems rotary buckle knobs (buckle knobs) breaking on a batch of parts outside of the previous population. This proposed AD would require the removal from service of this expanded population of affected restraint systems and modifies the compliance schedule for their removal. The FAA is proposing this AD to address the unsafe condition on these products.

DATES: The FAA must receive comments on this proposed AD by February 14, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this NPRM, contact Anjou Aeronautique, Strada Livezii nr. 98, 550042, Sibiu, Romania; telephone: +40 269 243 918; fax: +40 269 243 921; email: seatbelts@anjouaero.com. You may view this service information at the FAA, Engine and Propeller Standards Branch, 1200 District Avenue, Burlington, MA 01803. For information on the availability of this material at the FAA, call 781-238-7759.

Examining the AD Docket

You may examine the AD docket on the internet at https://www.regulations.gov by searching for and locating Docket No. FAA-2019-0537; or in person at Docket Operations between 9 a.m. and 5 p.m., Monday through Friday, except Federal holidays. The AD docket contains this NPRM, the mandatory continuing airworthiness information (MCAI), the regulatory evaluation, any comments received, and other information. The street address for Docket Operations is listed above. Comments will be available in the AD docket shortly after receipt.

FOR FURTHER INFORMATION CONTACT: Dorie Resnik, Aerospace Engineer, Boston ACO Branch, FAA, 1200 District Avenue, Burlington, MA, 01803; phone: 781-238-7693; fax: 781-238-7199; email: dorie.resnik@faa.gov.

SUPPLEMENTARY INFORMATION:

Comments Invited

The FAA invites you to send any written relevant data, views, or arguments about this proposed AD. Send your comments to an address listed under the ADDRESSES section. Include “Docket No. FAA-2019-0537; Product Identifier 2019-NE-16-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this proposed AD.

Discussion

The FAA issued AD 2017-16-04, Amendment 39-18981 (82 FR 39355, August 18, 2017), (“AD 2017-16-04”), for Anjou Aeronautique restraint systems installed on, but not limited to, Airbus Helicopters Model AS350B2, AS350B3, EC130B4, EC130T2, and AS355NP helicopters. AD 2017-16-04 requires inspection of the restraint system, placarding if it is found to be inoperative, and replacement of the affected restraint system with a part eligible for installation. AD 2017-16-04 resulted from reports of a population of buckle knobs breaking due to the alteration of rotary buckle sub-assembly by a supplier of Anjou Aeronautique to a specification different from the approved design data. The FAA issued AD 2017-16-04 to prevent a restraint system from failing to release due to the buckle knobs breaking off, preventing occupants from exiting the helicopter during an emergency.

Actions Since AD 2017-16-04 Was Issued

Since the FAA issued AD 2017-16-04, EASA received reports of additional Anjou Aeronautique Model 358 buckle knobs breaking on a batch of parts affected by the same unsafe condition due to an unknown root cause. As a result, EASA issued AD 2018-0195, dated September 4, 2018, which identifies a population of the restraint systems to be removed from service.

Revision to Cost Estimate

The FAA determined the need to clarify the estimated cost in AD 2017-16-04. The cost reflected in AD 2017-16-04 is the total cost per helicopter ($6,000 per restraint system multiplied by 7 seats per helicopter totaling $42,000). In this AD, the FAA is providing the cost estimate per restraint system.

Related Service Information Under 1 CFR Part 51

The FAA reviewed Anjou Aero Service Bulletin (SB) No. 358SB-14-101, Revision 1, dated December 12, 2014. The SB describes procedures for removing from service and replacing the rotary buckle sub-assembly on certain part-numbered and serial-numbered buckle assemblies, consisting of the rotary buckle, belt, and attachment. This service information is reasonably available because the interested parties have access to it through their normal course of business or by the means identified in the ADDRESSES section.

FAA's Determination

The FAA is proposing this AD because it evaluated all the relevant information and determined the unsafe condition described previously is likely to exist or develop in other products of the same type design.

Proposed AD Requirements

This proposed AD would retain certain requirements of AD 2017-16-04. This proposed AD expands the populations of affected restrains systems and modifies the compliance schedule for their removal.

Differences Between the Proposed AD and MCAI

EASA AD 2018-0195, dated September 4, 2018, requires replacement of the affected restraint system within six months after the effective date of the EASA AD. This proposed AD would require inspection of each restraint system within 30 hours time in service (TIS) after the effective date of the AD and replacement of the rotary buckle sub-assembly within 180 hours TIS after the effective date of this AD. Additionally, the EASA AD applies to restraint systems installed on, but not limited to, Airbus Helicopter AS350B2, AS350B3, and EC130T2 helicopters. This proposed AD would apply to restraint systems installed on, but not limited to, Airbus Helicopters AS350B2, AS350B3, EC130B4, EC130T2, and AS355NP helicopters.

Costs of Compliance

The FAA estimates that this proposed AD affects an unknown number of restraint systems installed on, but not limited to, Airbus Helicopters AS350B2, AS350B3, EC130B4, EC130T2, and AS355NP helicopters of U.S. registry.

The FAA estimates the following costs to comply with this proposed AD:

Estimated Costs
Action | Labor cost | Parts cost | Cost per product
Inspect restraint system | 0.5 work-hours × $85 per hour = $42.50 | $0 | $42.50
Remove and replace restraint system | 0.5 work-hours × $85 per hour = $42.50 | 6,000 | 6,042.50

The FAA estimates the following costs to do any necessary placarding that would be required based on the results of the proposed inspection. The FAA has no way of determining the number of aircraft that might need this placarding:

On-Condition Costs
Action | Labor cost | Parts cost | Cost per product
Placard seat as inoperable | 0.1 work-hour × $85 per hour = $8.50 | $0 | $8.50

According to the manufacturer, some of the costs of this proposed AD may be covered under warranty, thereby reducing the cost impact on affected individuals. The FAA does not control warranty coverage for affected individuals. As a result, the FAA has included all costs in its cost estimate.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2017-16-04, Amendment 39-18981 (82 FR 39355, August 18, 2017), and adding the following new AD:

Anjou Aeronautique (formerly Romtex Anjou Aeronautique): Docket No. FAA-2019-0537; Product Identifier 2019-NE-16-AD.

(a) Comments Due Date

The FAA must receive comments on this AD action by February 14, 2020.

(b) Affected ADs

This AD replaces AD 2017-16-04, Amendment 39-18981 (82 FR 39355, August 18, 2017).

(c) Applicability

(1) This AD applies to Anjou Aeronautique Model 358 torso restraint systems (restraint systems), part number (P/N) 358XX-XXX-YY-ZZZ (where 358XX-XXX-YY-ZZZ can be any combination of numbers and/or letters), with serial numbers (S/Ns) listed in Effectivity, paragraph 1.2, of Anjou Aero Service Bulletin (SB) No. 358SB-14-101, Revision 1, dated December 12, 2014, and with S/Ns listed in Figure 1 to Paragraph (c)(1) of this AD.

Figure 1 to Paragraph (c)(1)—Applicability
S/N (From . . . inclusive) | S/N (To . . . inclusive)
738 | 1037
1049 | 1049
1056 | 1061
1074 | 1619

(2) These restraint systems are installed on, but not limited to, Airbus Helicopters AS350B2, AS350B3, EC130B4, EC130T2, and AS355NP helicopters, certificated in any category.

(d) Subject

Joint Aircraft System Component (JASC) Code 2500, Cabin Equipment/Furnishings.

(e) Unsafe Condition

This AD was prompted by reports to the European Union Aviation Safety Agency (EASA) of additional restraint system buckle knobs, since the publication of AD 2017-16-04, breaking on a batch of parts outside of the population identified in AD 2017-16-04. The FAA is issuing this AD to prevent a restraint system strap from failing to release from the buckle, causing occupants to be unable to exit the aircraft during an emergency. The unsafe condition, if not addressed, could result in a restraint system strap failing to release from the buckle, resulting in injury or death of the occupant.

(f) Compliance

Comply with this AD within the compliance times specified, unless already done.

(g) Required Actions

(1) For the restraint systems listed in the Effectivity, paragraph 1.2, of Anjou Aero SB No. 358SB-14-101, Revision 1, dated December 12, 2014, except for S/Ns 1038-1048 (inclusive), 1050-1055 (inclusive), and 1062-1073 (inclusive), within 30 hours time-in-service (TIS) after the effective date of this AD, inspect each restraint system for proper release of the straps from the restraint system.

(i) If the straps do not release from the restraint system, before further flight, placard the seat as inoperative. Within 180 hours TIS after the effective date of this AD, remove the rotary buckle sub-assembly and replace it with a part eligible for installation.

(ii) If the straps release from the restraint system, within 180 hours TIS after the effective date of this AD, remove the rotary buckle sub-assembly and replace it with a part eligible for installation.

(2) For restraint systems, P/N 358XX-XXX-YY-ZZZ (where 358XX-XXX-YY-ZZZ can be any combination of numbers and/or letters), having S/Ns 738-1619 (inclusive), within 30 hours TIS after the effective date of this AD, inspect the restraint system for proper release of the straps from the restraint system.

(i) If the straps do not release from the restraint system, before further flight, placard the seat as inoperative and within 180 hours TIS after the effective date of this AD, remove the restraint system from service and replace it with a part eligible for installation.

(ii) If the straps release from the restraint system, within 180 hours TIS or six months after the effective date of this AD, whichever occurs first, remove the restraint system from service and replace it with a part eligible for installation.

(h) Installation Prohibition

After the effective date of this AD, do not install on any aircraft an Anjou Aeronautique restraint system, P/N 358XX-XXX-YY-ZZZ, having S/Ns 738-1619 (inclusive), even if the restraint system is labeled in compliance with Anjou Aero SB No. 358SB-14-101, Revision 1, dated December 12, 2014.

(i) Definition

For the purpose of this AD, a “part eligible for installation” is an Anjou Aeronautique restraint system, excluding P/N 358XX-XXX-YY-ZZZ, having S/Ns 738-1619 (inclusive), that had the rotary buckle sub-system repaired and a label attached indicating compliance with Anjou Aero SB No. 358SB-14-101, Revision 1, dated December 12, 2014, or later revisions.

(j) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD.

(2) Before using any approved AMOC, notify your appropriate principal inspector, or lacking a principal inspector, the manager of the local flight standards district office/certificate holding district office.

(k) Related Information

(1) For more information about this AD, contact Dorie Resnik, Aerospace Engineer, Boston ACO Branch, FAA, 1200 District Avenue, Burlington, MA 01803; phone: 781-238-7693; fax: 781-238-7199; email: dorie.resnik@faa.gov.

(2) Refer to EASA AD 2018-0195, dated September 4, 2018, for more information. You may examine the EASA AD in the AD docket on the internet at https://www.regulations.gov by searching for and locating it in Docket No. FAA-2019-0537.

(3) For service information identified in this AD, contact Anjou Aeronautique, Strada Livezii nr. 98, 550042, Sibiu, Romania; telephone: +40 269 243 918; fax: +40 269 243 921; email: seatbelts@anjouaero.com. You may view this referenced service information at the FAA, Engine and Propeller Standards Branch, 1200 District Avenue, Burlington, MA 01803. For information on the availability of this material at the FAA, call 781-238-7759.

Issued in Burlington, Massachusetts, on December 20, 2019.
Karen M. Grant,
Acting Manager, Engine & Propeller Standards Branch, Aircraft Certification Service.

[FR Doc. 2019-27939 Filed 12-30-19; 8:45 am]

BILLING CODE 4910-13-P